DEPARTMENT OF THE INTERIOR

Fish and Wildlife Service

Notice of Intent To Prepare a Comprehensive Conservation Plan and Environmental Assessment; Trinity River National Wildlife Refuge, Located in Liberty County, TX

AGENCY: Fish and Wildlife Service, Interior.

SUMMARY: This notice advises the public that the Fish and Wildlife Service, Southwest Region, intends to gather information necessary to prepare a CCP and EA for Trinity River National Wildlife Refuge (Refuge), pursuant to the National Environmental Policy Act and its implementing regulations. The Service is furnishing this notice in compliance with the National Wildlife Refuge System Administration Act of 1966, to achieve the following:

(1) Advise other agencies and the public of our intentions, and

(2) Obtain suggestions and information on the scope of issues to include in the environmental document.

DATES: Special mailings, newspaper articles, postings, and media announcements will inform people of opportunities for written input throughout the CCP planning process. Refuge fact sheets will be made available at local libraries in the surrounding communities. This notice of intent/public scoping process will continue until November 30, 2007. Written comments submitted by mail or e-mail should be postmarked by that date to ensure consideration. Comments mailed after that date will be considered to the extent practical. Inquire at the following address for future dates of planning activities and due dates for comments.

ADDRESSES: Address comments and requests for more information to: Stuart Marcus, Refuge Manager, Trinity River National Wildlife Refuge, P.O. Box 10015, Liberty, Texas 77575; phone: 936-336-9786, fax: 936-336-9847. Information concerning this Refuge may also be found at the following Web site: http://southwest.fws.gov. Comments submitted via e-mail should be addressed to Yvette Truitt-Ortiz at Yvette_TruittOrtiz@fws.gov or Stuart_Marcus@fws.gov. Additionally, you may hand-deliver comments to Mr. Marcus at the Refuge, located approximately 48 miles east of Houston, Texas and 44 miles west of Beaumont, Texas on Highway 90. Our practice is to make comments, including names and addresses of respondents, available for public review during regular business hours. Individual respondents may request that we withhold their home address from the rulemaking record, which we will honor to the extent allowable by law.

FOR FURTHER INFORMATION CONTACT: Yvette Truitt-Ortiz, Natural Resource Planner, Division of Planning, P.O. Box 1306, Albuquerque, New Mexico 87103-1306; phone: 505-248-6452; fax 505-248-6874; e-mail Yvette_TruittOrtiz@fws.gov.

SUPPLEMENTARY INFORMATION: The National Wildlife Refuge System Improvement Act of 1997 requires that all lands within the National Wildlife Refuge System (NWRS) are to be managed in accordance with an approved CCP. The CCP guides management decisions and identifies refuge goals, long-range objectives, and strategies for achieving refuge purposes. Each refuge in the NWRS has specific purposes for which it was established. Those purposes are used to develop and prioritize management goals and objectives within the NWRS mission and to guide which public uses will occur on a given refuge.

The planning process will consider many elements, including wildlife and habitat management, habitat protection and acquisition, wilderness preservation, public recreational activities, and cultural resource protection. Public input into the planning process is essential. The planning process is a way for the Service and the public to evaluate refuge management goals and objectives for the best possible conservation efforts of this important wildlife habitat. Concurrently, this process is also providing for wildlife-dependent recreation opportunities that are compatible with each refuge's establishing purposes and the mission of the NWRS.

Trinity River National Wildlife Refuge is located in Liberty County, Texas, and encompasses 22,000 acres of bottomland hardwood forest along a portion of the Trinity River in southeastern Texas. The Refuge, which is a remnant of what was once a much larger natural area is a broad, flat floodplain made up of numerous sloughs, oxbows lakes, artesian wells, and tributaries. The CCP will provide other agencies and the public with a clear understanding of the desired conditions for the Refuge and how the Service will implement management strategies for the conservation and development of these natural resources.

The Service, through this notice of intent, formally begins the comprehensive conservation planning process for Trinity River National Wildlife Refuge. The Service requests input on any and all issues concerning management or public recreation. Comments regarding the protection of threatened and/or endangered species, migratory birds, native species, and their habitats are encouraged.

The Service has provided the above questions for optional use only. Comments received will be used as part of the planning process. Individual comments will not be referenced in our reports or directly responded to. The Service will continue to solicit information from the public and other agencies via open houses, meetings, and written comments. Special mailings, newspaper releases, and announcements will continue to inform people of the time and place of opportunities for further input to the CCP.

Review of this project will be conducted in accordance with the National Environmental Policy act of 1968, as amended (42 U.S.C. 4321 et seq.), NEPA Regulations (40 CFR parts 1500-1508) found at http://www.thecrecom/fedlaw/default.htm, other appropriate Federal laws, and Service policies and procedures for compliance with those regulations.

The Service will prepare an Environmental Assessment (EA) in accordance with procedures for implementing NEPA found in the Department of the Interior Manual (DM Part 516, Chap 6). The decision to prepare an Environmental Impact Statement instead of an EA would be contingent upon the complexity of issues following the scoping phase of the CCP process.

We estimate that the draft environmental documents will be available in fall 2009 for public review and comment.

Authority: This notice is published under the authority of the National Wildlife Refuge System Improvement Act of 1997, Public Law 105-57.

Dated: November 3, 2006.
Christopher T. Jones,
Acting Regional Director, U.S. Fish and Wildlife Service, Albuquerque, New Mexico.

Editorial Note: This document was received at the Office of the Federal Register on August 7, 2007.

[FR Doc. E7-15710 Filed 8-9-07; 8:45 am]

BILLING CODE 4310-55-P